DEPARTMENT OF VETERANS AFFAIRS

Prosthetics and Special-Disabilities Programs, Notice of Meeting

The Department of Veterans Affairs (VA) gives notice under the Federal Advisory Committee Act, 5 U.S.C. App.2, that a virtual meeting of the Federal Advisory Committee on Prosthetics and Special-Disabilities Programs will be held on Monday, September 21-Tuesday, September 22, 2020. The meeting sessions will begin and end as follow:

Date | Time (eastern standard time)
September 21, 2020 | 8:30 a.m.-4:30 p.m.
September 22, 2020 | 8:30 a.m.-12:30 p.m.

The virtual meeting sessions are open to the public.

The purpose of the Committee is to advise the Secretary of VA on VA's prosthetics programs designed to provide state-of-the-art prosthetics and the associated rehabilitation research, development, and evaluation of such technology. The Committee also provides advice to the Secretary on special-disabilities programs, which are defined as any program administered by the Secretary to serve Veterans with spinal cord injuries, blindness or visual impairments, loss of extremities or loss of function, deafness or hearing impairment, and other serious incapacities in terms of daily life functions.

On September 21, 2020, the Committee will convene open virtual sessions on Electronic Health Record Update; Audiology and Speech Pathology Service; National Veterans Sports Program; Office of Academic Affiliations; Caregiver Program; and Prosthetic and Sensory Aids Service.

On September 22, 2020, the Committee members will convene open virtual sessions on Recreation and Creative Arts Therapy; Rehabilitation Research and Development; 3D Printing Medical Applications in Veterans Health Administration (VHA); and VHA Reorganization at VA Central Office.

Although no time will be allocated at this virtual meeting for receiving oral presentations from the public, the public may submit 1-2-page summaries of their written statements for the Committee's review. Public comments may be received no later than September 14, 2020 for inclusion in the official meeting record. Please send these comments to Judy Schafer, Ph.D., Designated Federal Officer, Rehabilitation and Prosthetic Services, Veterans Health Administration, at Judy.Schafer@va.gov.

Members of the public who wish to obtain a copy of the agenda, should contact Ms. Judy Schafer, Ph.D., at Judy.Schafer@va.gov and provide your name, professional affiliation, email address, and phone number. For any members of the public that wish to attend virtually, they may use the WebEx link at: https://veteransaffairs.webex.com/webappng/sites/veteransaffairs/meeting/download/2ca0d02109634c9da749fc357ba5acbd?siteurl=veteransaffairs&MTID=m9a036c6bdee834368a4100b8ca3dfd1f. Meeting number (access code): 199 173 3476, Meeting password: h6J6ETzNC@8, or to join by phone: 1-404-397-1596. Real time closed captioning will be available.

Dated: September 1, 2020.
LaTonya L. Small,
Federal Advisory Committee Management Office.

[FR Doc. 2020-19648 Filed 9-3-20; 8:45 am]

BILLING CODE P